DEPARTMENT OF THE INTERIOR

Bureau of Land Management

Temporary Road/Area Closures

AGENCY: Bureau of Land Management, Bakersfield Field Office and Ridgecrest Field Office.

ACTION: Temporary closure of roads/areas within the Piute Fire, Kern County, California.

SUMMARY: Notice is hereby given that certain roads/areas within the Piute Fire perimeter are temporarily closed to motorized vehicles due to a wildland fire. The purpose of this closure is to provide for public and firefighter safety. This action is to decrease the number of private vehicles on the roads/areas within the fire perimeter.

DATES: This closure is effective July 3, 2008 and will remain in effect until further notice.

ADDRESSES: Maps showing the affected areas are available at the Bakersfield Field Office, Ridgecrest Field Office, Jawbone Canyon Visitor's Center, as well as posted at the Piute Fire Incident Command Post.

FOR FURTHER INFORMATION CONTACT: Tim Smith, Field Office Manager, Bureau of Land Management, Bakersfield Field Office, 3801 Pegasus Drive, Bakersfield, California, (661) 391-6005.

SUPPLEMENTARY INFORMATION: This temporary closure is implemented pursuant to 43 CFR 8364.1—Closures and Restriction Orders. The areas/roads affected by this closure are specifically identified as follows: Nichols Peak and Bright Star Wilderness Areas, Cortez Canyon, Dry Canyon, Jawbone Canyon and Lynch Canyon, Piute Mountain Road, Saddle Springs Road, Kelso Valley Road, Goat Ranch Road, Erskine Creek Road and Cook's Peak Road. All areas/roads affected are posted with signs at points of public access using standard vehicle closure signs. The roads are narrow and dirt, and only support one-way traffic so coordination between the firefighting forces is crucial.

This closure order is issued to provide for firefighters and public safety. Exemptions to this closure include vehicles conducting official government business and firefighting equipment.

Penalties: 43 CFR 8360.0-7. Violation of any regulations in this part by a member of the public is punishable by a fine not to exceed $1000 and/or imprisonment not to exceed 12 months.

Dated: July 3, 2008.
Tim Smith,
Bakersfield Field Office Manager.

[FR Doc. E8-16492 Filed 7-17-08; 8:45 am]

BILLING CODE 4310-$$-P